DEPARTMENT OF AGRICULTURE

Submission for OMB Review; Comment Request

January 24, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 28, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: FNS Information Collection Needs due to COVID-19.

OMB Control Number: 0584-0654.

Summary of Collection: As the Food and Nutrition Service (FNS) is responding to the COVID-19 Coronavirus pandemic, it is implementing and approving a number of waivers and program adjustments to ensure Americans in need can access nutrition assistance during the crisis while maintaining recommended practices. Two pieces of legislation have detailed many of the program adjustments available to FNS. The Families First Coronavirus Response Act (Pub. L. 116-127) and the Coronavirus Aid, Relief and Economic Security (CARES) Act (Pub. L. 116-136) provided a number of program adjustments and additional funding, respectively. The statutes describing these waivers and flexibilities also have reporting requirements. In addition, Section 12(l) of the Richard B. Russell National School Lunch Act (42 U.S.C. 1760(l)) (NSLA) allows FNS to waive statutory and regulatory requirements established under the NSLA or Child Nutrition Act of 1966 (42 U.S.C. 1771 et seq.) for a State or eligible service provider administering a Child Nutrition Program (CNP). FNS issues statewide waivers under NSLA waiver authority in response to State agencies' requests to facilitate the ability for Program operators to carry out the purposes of CNPs during COVID-19-related operations. These flexibilities also carry associated reporting requirements.

Need and Use of the Information: The information enables the Food and Nutrition Service to examine waiver applications and provide reporting data required by the Families First Coronavirus Recovery Act (FFCRA) and Coronavirus Aid, Relief and Economic Security (CARES) Act.

Description of Respondents: State, Local, or Tribal Government.

Number of Respondents: 1,349.

Frequency of Responses: Reporting: On occasion; Weekly.

Total Burden Hours: 11,549.

Ruth Brown,
Departmental Information Collection Clearance Officer.

[FR Doc. 2022-01579 Filed 1-26-22; 8:45 am]

BILLING CODE 3410-30-P